DEPARTMENT OF COMMERCE

International Trade Administration

[A-580-807]

Polyethylene Terephthalate Film, Sheet, and Strip From the Republic of Korea: Final Results of Antidumping Duty Administrative Review

AGENCY: Import Administration, International Trade Administration, Department of Commerce.

SUMMARY: On July 14, 2010 the Department of Commerce (the Department) published the preliminary results of the administrative review of the antidumping order on polyethylene terephthalate film, sheet and strip (PET film) from the Republic of Korea (Korea). See Polyethylene Terephthalate Film, Sheet, and Strip from the Republic of Korea: Preliminary Results of Antidumping Duty Administrative Review, 75 FR 40784 (July 14, 2010) (Preliminary Results). This review covers one manufacturer/exporter of the subject merchandise to the United States, Kolon Industries, Inc. (Kolon). The period of review (POR) is June 1, 2008, through May 31, 2009.

Based on our analysis of the comments received, we have made changes in the margin calculation for Kolon. Therefore, the final results differ from the preliminary results. The final weighted-average dumping margin is listed below in the section entitled “Final Results of Review.”

DATES: Effective Date: November 19, 2010.

FOR FURTHER INFORMATION CONTACT: Tyler Weinhold or Robert James, AD/CVD Operations, Office 7, Import Administration, International Trade Administration, U.S. Department of Commerce, 14th Street and Constitution Avenue, NW., Washington, DC 20230; telephone: (202) 482-5604 or (202) 482-0649, respectively.

SUPPLEMENTARY INFORMATION:

Background

This review covers one manufacturer/exporter of the subject merchandise, Kolon. On July 14, 2010, the Department published in the Federal Register the preliminary results of the June 1, 2008, through May 31, 2009, administrative review of the antidumping order on PET film from Korea. See Preliminary Results.

We invited interested parties to comment on the preliminary results of review. On August 13, 2010, we received comments from DuPont Teijin Films, Mitsubishi Polyester Film, Inc., SKC, Inc. and Toray Plastics (America), Inc. (collectively petitioners) and Kolon. On August 18, 2010, we received rebuttal comments from Kolon. The Department has conducted this administrative review in accordance with section 751 of the Tariff Act of 1930, as amended (the Act).

Scope of the Order

Imports covered by this order are shipments of all gauges of raw, pretreated, or primed polyethylene terephthalate film, sheet, and strip, whether extruded or coextruded. The films excluded from this review are metallized films and other finished films that have had at least one of their surfaces modified by the application of a performance-enhancing resinous or inorganic layer more than 0.00001 inches (0.254 micrometers) thick.

PET film is currently classifiable under Harmonized Tariff Schedule of the United States (HTSUS) subheading 3920.62.00. The HTSUS subheading is provided for convenience and for customs purposes. The written description remains dispositive as to the scope of the product coverage.

Analysis of Comments Received

All issues raised in the case briefs submitted by Kolon and petitioners are addressed in the “Issues and Decision Memorandum” (Decision Memorandum) from Susan H. Kuhbach, Acting Deputy Assistant Secretary for Antidumping and Countervailing Duty Operations, to Ronald K. Lorentzen, Deputy Assistant Secretary for Import Administration, dated November 12, 2010, which is adopted by this notice. A list of issues which parties have raised is in the Decision Memorandum and is attached to this notice as an appendix. Parties can find a complete discussion of all issues raised in this review and the corresponding recommendations in the Decision Memorandum which is on file in the Central Records Unit, Room 7046, of the main Commerce Building. In addition, a complete version of the Decision Memorandum can be accessed directly on the Web at http://www.ia.ita.doc.gov/frn. The paper copy and the electronic version of the Decision Memorandum are identical in content.

Changes Since the Preliminary Results

Based on our analysis of the comments received, we have made certain changes in the margin calculations which are discussed in the relevant sections of the Decision Memorandum and the Memorandum to the File, “Analysis of Data Submitted by Kolon Industries, Inc. (Kolon) for the Final Results of Polyethylene Terephthalate Film, Sheet, and Strip from Korea (A-580-807)”, dated November 12, 2010.

Specifically, we have made the following changes to the margin calculation:

• We revised Kolon's general and administrative expense ratio to (1) exclude from the numerator a reported gain on the sale of land; and (2) offset the denominator by the reported scrap revenue sold during the POR.

• We also corrected clerical errors identified by Kolon which relate to SAS programming language in the U.S. Margin Program. In particular, we modified the U.S. Margin Program to reflect numeric values for certain product characteristics originally assigned a character value in the Preliminary Results.

Final Results of Review

We determine that the following weighted-average margin percentage exists for the period June 1, 2008, through May 31, 2009:

Manufacturer/exporter | Margin
Kolon Industries, Inc | de minimis (0.28 percent).

Assessment

Pursuant to 19 CFR 351.212(b), the Department will determine, and CBP shall assess, antidumping duties on all appropriate entries. The Department will issue appropriate assessment instructions directly to CBP 15 days after the date of publication of the final results of this review. For assessment purposes, where possible, we calculated importer-specific (or customer-specific) ad valorem assessment rates for PET film from Korea based on the ratio of the total amount of the dumping duties calculated for the examined sales to the total entered value of those same sales. See 19 CFR 351.212(b). However, where Kolon did not report the entered value for its sales, we will calculate importer-specific (or customer-specific) per unit duty assessment rates. We will instruct CBP to assess antidumping duties on all appropriate entries covered by this review if any assessment rate calculated in the final results of this review is above de minimis.

Cash Deposit Requirements

The following cash deposit requirements will be effective upon publication of this final results of review for all shipments of the subject merchandise entered, or withdrawn from warehouse, for consumption on or after the publication date, as provided for by section 751(a)(2)(C) of the Act: (1) Because the rate for Kolon is de minimis, i.e., less than 0.5 percent, no cash deposit will be required for Kolon; (2) if the exporter is not a firm covered in this review or the less than fair value (LTFV) investigation, but the manufacturer is, the cash deposit rate will be the rate established for the most recent period for the manufacturer of the merchandise; and (3) if neither the exporter nor the manufacturer is a firm covered in this or any previous review, the cash deposit rate will be the all-others rate of 21.50 percent from the LTFV investigation. See Polyethylene Terephthalate Film, Sheet, and Strip From the Republic of Korea; Notice of Final Court Decision and Amended Final Determination of Antidumping Duty Investigation, 62 FR 50557 (September 26, 1997).

Notification to Interested Parties

The Department will disclose calculations performed in connection with the final results of review within five days of the date of publication of this notice in accordance with 19 CFR 351.224(b).

This notice also serves as a reminder to parties subject to administrative protective orders (APO) of their responsibility concerning the disposition of proprietary information disclosed under APO in accordance with 19 CFR 351.305(a)(3). Timely written notification of the return/disposition of APO materials or conversion to judicial protective order is hereby requested. Failure to comply with the regulations and the terms of an APO is a sanctionable violation.

We are issuing and publishing this determination in accordance with section 751(a)(1) and 777(i) of the Act.

Dated: November 12, 2010.
Ronald K. Lorentzen,
Deputy Assistant Secretary for Import Administration.

Appendix—Comments in Decision Memo

Comment 1: Clerical Error

Comment 2: Kolon's Profit Ratios

Comment 3: G&A Expense Ratio (Gain on Sale of Land)

Comment 4: G&A Expense Ratio (Calculation of the Denominator)

Comment 5: U.S. Indirect Selling Expenses

Comment 6: Domestic Inland Freight

Comment 7: Offsetting of Negative Margins

[FR Doc. 2010-29271 Filed 11-18-10; 8:45 am]

BILLING CODE 3510-DS-P